DEPARTMENT OF AGRICULTURE

Submission for OMB Review; Comment Request

April 10, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Farmers Market Questionnaire.

OMB Control Number: 0581-0169.

Summary of Collection: The Agricultural Marketing Act of 1946 (7 U.S.C. 1621-1627) authorizes the Transportation and Marketing (T&M) Program, Agricultural Marketing Service (AMS) to conduct research to find better designs, development techniques, and operating methods for modern farmer's markets under the Agency's Marketing Service Branch. Individual studies are conducted in close cooperation with local interested parties. Recommendations are made available to local decision makers interested in constructing modern farmer's markets to serve area producers and consumers. T&M researchers will survey by mail, with telephone follow-up, the managers of farmer's markets. These markets represent a varied range of sizes, geographical locations, types, ownership, and structure and will provide a valid overview of farmer's markets in the United States.

Need and Use of the Information: The form, TM-6 “Farmer's Market Questionnaire,” is used to collect information and will serve as a survey instrument to obtain a clearer picture of existing farmer's market structure as well as provide a measure of growth. Information such as the size of markets, operating times and days, retail and wholesale sales, management structure, and rules and regulations governing the markets are all important questions that need to be answered in the design of a new market. The information developed by this survey will support better designs, development techniques, and operating methods for modern farmers markets and outline improvements that can be applied to revitalize existing markets. If this information is not collected, the ongoing research to develop new farmers' markets must rely on limited and often anecdotal information. This narrow focus will limit the ability of researchers to provide effective designs and development plans for new markets where such information is not immediately available.

Description of Respondents: Not-for-profit institutions.

Number of Respondents: 4,685.

Frequency of Responses: Reporting: Biennially.

Total Burden Hours: 356.

Charlene Parker,
Departmental Information Collection Clearance Officer.

[FR Doc. E9-8649 Filed 4-15-09; 8:45 am]

BILLING CODE 3410-02-P